DEPARTMENT OF DEFENSE

Department of the Navy

Notice of Intent To Grant Exclusive Patent License; Virotek, LLC

AGENCY: Department of the Navy.

ACTION: Notice.

SUMMARY: The Department of the Navy hereby gives notice of its intent to grant to Virotek, LLC, a revocable, nonassignable, exclusive license to practice worldwide the Government-owned inventions described in U.S. Patent No. 6,015,681 issued 18 January 2000, and its PCT serial No. 96/12135, filed 12 Dec 1996, entitled “Rapid Immunoassay for Cariogenic Baceria”; and U.S. Patent Serial No. 90/44214, filed on 3 Aug 1999 and its PCT serial No. 99/10482 filed on 3 Aug 1999, entitled “Rapid Immunoassay to Detect Infection with Mycobacterium tuberculosis” in the field of Rapid, Hand-held Salivary Diagnostics for Streptococcus mutans, lactobacillus and Mycobacterium tuberculosis.

DATE: Anyone wishing to object to the grant of this license must file written objections along with supporting evidence, if any, not later than April 10, 2000. Written objections are to be filed with the Office of Technology Transfer, Naval Medical Research Center, 8901 Wisconsin Ave, Bethesda, MD 20889-5607, telephone (301) 319-7428.

FOR FURTHER INFORMATION CONTACT: CDR Charles Schlagel, MSC, USN, Director, Office of Technology Transfer, Naval Medical Research Center, 503 Robert Grant Avenue, Silver Spring, MD 20910-7500, telephone (301) 319-7428.

Dated: January 27, 2000.
J.L. Roth,
Lieutenant Commander, Judge Advocate General's Corps, U.S. Navy, Federal Register Liaison Officer.

[FR Doc. 00-2728 Filed 2-7-00; 8:45 am]

BILLING CODE 3812-FF-P